DEPARTMENT OF TRANSPORTATION

Pipeline and Hazardous Materials Safety Administration

49 CFR Parts 105, 106, 107, 110, 130, 171, 172, 173, 174, 175, 176, 178, 179 and 180

[Docket No. PHMSA-2007-29245 (HM-244)]

RIN 2137-AE30

Hazardous Materials Regulations: Minor Editorial Corrections and Clarifications

AGENCY: Pipeline and Hazardous Materials Safety Administration (PHMSA), DOT.

ACTION: Final rule.

SUMMARY: This final rule corrects editorial errors, makes minor regulatory changes and, in response to requests for clarification, improves the clarity of certain provisions in the Hazardous Materials Regulations (HMR). The intended effect of this rule is to enhance the accuracy and reduce misunderstandings of the regulations. The amendments contained in this rule are non-substantive changes that do not impose new requirements.

DATES: Effective date: October 1, 2007.

FOR FURTHER INFORMATION CONTACT: Dirk Der Kinderen, Office of Hazardous Materials Standards, (202) 366-8553, PHMSA, East Building, PHH-10, 1200 New Jersey Avenue, SE., Washington, DC 20590.

SUPPLEMENTARY INFORMATION:

I. Background

PHMSA annually reviews the Hazardous Materials Regulations (HMR; 49 CFR parts 171-180) to identify typographical and other errors, outdated addresses or other contact information, and similar errors. In this final rule, we are correcting typographical errors; incorrect CFR references and citations; inaccurate office names; inconsistent use of terminology; misstatements of certain regulatory requirements; and inadvertent omissions of information. In addition, this final rule revises the address for PHMSA to indicate the new location for the headquarters office.

Because these amendments do not impose new requirements, notice and public comment procedures are unnecessary. By making these amendments effective without the customary 30-day delay following publication, the changes will appear in the next revision of Title 49.

The following is a summary by section of the major changes made in this final rule. The summary does not include minor editorial corrections such as punctuation errors, or similar minor revisions.

II. Section-by-Section Review

Part 107

Section 107.608

This section contains general requirements for registration. In paragraph (a), we are removing the reference to § 107.616(d) for consistency with revisions made in HM-208F (72 FR 24536; May 3, 2007). The HM-208F final rule removed paragraph (d) of § 107.616.

Part 171

Section 171.6

This section lists approved collections of information required under the HMR. In the table in paragraph (b)(2), in the third column for OMB control number 2137-0557, we are removing the reference citations to §§ 178.270-3 and 178.270-13. Section 178.270-3 was removed in an earlier rulemaking, and we are removing § 178.270-13, which addresses testing requirements for IM 101 and 102 specification portable tanks in this final rule. As prescribed in § 173.32(c)(2), the manufacture of these portable tanks is no longer authorized.

Section 171.7

This section lists material incorporated by reference into the HMR. In paragraph (a)(3), in the second column of the table of material incorporated by reference, for the entry ASME Code, Sections II (Parts A and B), V, VIII (Division 1), and IX, we are removing the reference citations, §§ 178.270-2 through 178.272-1, which contain requirements applicable to the manufacture of IM 101 and 102 portable tanks, because the manufacture of these portable tanks is no longer authorized. Additionally, we are updating a reference citation for the use of the UN Recommendations.

Section 171.8

This section lists definitions for terms used in the HMR. In the definition for “Administrator,” we are correcting the office name “Research and Special Programs Administration” to read “Pipeline and Hazardous Materials Safety Administration.” In the definition for “Shipping paper,” we are removing the references to “§§ 172.202, 172.203 and 172.204” to clarify that shipping papers must be prepared in accordance with the requirements in subpart C of part 172.

Section 171.14

This section provides transitional provisions for recently adopted regulatory changes. In paragraph (d)(6), we are correcting the citation “172.202(a)(6)” to read “172.202(a)(7)” for consistency with revisions made to § 173.202(a) in a final rule published under docket number HM-215I (71 FR 78596; December 29, 2006).

Section 171.15

This section contains telephonic notification requirements for certain hazardous materials transportation incidents. In paragraph (b)(3), we are correcting the telephone report requirements for infectious substances by removing the term “diagnostic specimen” since that term no longer appears in the HMR.

Section 171.23

This section contains requirements for specific materials and packages transported under the international standards. In paragraph (b)(5), we are correcting requirements by removing an inaccurate exception for Class 7 (radioactive) materials included in a final rule published under docket number HM-215F (72 FR 25162; May 3, 2007).

Part 172

Section 172.101—The Hazardous Materials Table (HMT)

We are removing the entries “Helium-oxygen mixture, see Rare gases and oxygen mixtures,” “Nitrogen, mixtures with rare gases, see Rare gases and nitrogen mixtures,” and “Oxygen, mixtures with rare gases, see Rare gases and oxygen mixtures.” These entries are being removed for consistency with revisions made in the final rule published under docket number HM-215I.

We are correcting entries in the HMT as follows:

• For the entries “Ammonia, anhydrous,” Division 2.3, UN1005, “Ammonia solution, relative density less than 0.880 at 15 degrees C in water, with more than 50 percent ammonia,” Division 2.3, UN3318, and “Ammonia solutions, relative density less than 0.880 at 15 degrees C in water, with more than 35 percent but not more than 50 percent ammonia,” UN2073, we are correcting Column (7) by adding “N87.” Special provision “N87” was inadvertently omitted. This correction appears as a “Remove/Add” in this rulemaking.

• For the entry “Articles, explosive, n.o.s.,” UN0353, in Column (6), we are correcting the label code “1.4GD” to read “1.4G.”

• For the entry “Articles, explosive, n.o.s.,” UN0467I, in Column (4), we are correcting the identification number to read “UN0467” and in Column (5), we are correcting the packing group to read “II.” This correction appears as a “Remove/Add” in this rulemaking.

• For the entry “Caesium hydroxide solution,” UN2681, PG III, in Column (8B), we are correcting the section reference to read “203.”

• For the entry “Contrivances, water-activated, with burster, expelling charge or propelling charge,” UN0248, we are correcting Column (1) by adding “G.” Symbol “G” was inadvertently omitted.

• For the entry “Contrivances, water-activated, with burster, expelling charge or propelling charge,” UN0249, we are correcting Column (1) by adding “G.” Symbol “G” was inadvertently omitted.

• For the entry “Hydrazine, aqueous solution, with more than 37% hydrazine, by mass,” UN2030, PG III, in Column (8A), we are correcting the section reference to read “154.”

• For the entry “Hydrogendifluorides, solid, n.o.s.,” UN1740, PG II and III, the proper shipping name is corrected to the singular form to read “Hydrogendifluoride, solid, n.o.s.” This correction appears as a “Remove/Add” in this rulemaking.

• For the entry “Hydrogen peroxide, aqueous solutions with more than 40 percent but not more than 60 percent hydrogen peroxide (stabilized as necessary,) ” UN2014, we are correcting Column (7) by adding “A60.” Special provision “A60” was inadvertently omitted.

• For the entry “Hydrogen peroxide, aqueous solutions with not less than 8 percent but less than 20 percent hydrogen peroxide (stabilized as necessary,) ” UN2984, in Column (8C), we are correcting the section reference to read “241.”

• For the entry “Nitrocellulose, with not more than 12.6 percent nitrogen, by dry mass, or Nitrocellulose mixture with pigment or Nitrocellulose mixture with plasticizer or Nitrocellulose mixture with pigment and plasticizer,” UN2557, we are revising the proper shipping name in column (2) to read “Nitrocellulose, with not more than 12.6 percent, by dry mass mixture with or without plasticizer, with or without pigment.” This revision is being made for consistency with the description for UN2557 in the UN Recommendations, and appears as a “Remove/Add” in this rulemaking.

• For the entry “4-Nitrophenylhydrazine, with not less than 30% water, by mass,” UN3376, in Column (7) we are correcting Special provision “164” to read “162.” Special provision “164” was inadvertently assigned in place of “162.” This correction appears as a “Remove/Add” in this rulemaking.

• For the entry “Organoarsenic compound, liquid, n.o.s.,” UN3280, PG I, II, and III, the information in the columns associated with PG I is corrected by aligning the hazardous material information with the appropriate columns. This correction appears as a “Remove/Add” in this rulemaking.

• For the entry “Paint or Paint related materials,” UN3066, PG II and III, the proper shipping name is corrected to the singular form to read “Paint or Paint related material.” This correction appears as a “Remove/Add” in this rulemaking.

Section 172.202

Section 172.202 contains requirements for shipping descriptions on shipping papers. In paragraph (a)(6)(vi), we are correcting the wording “except for UN2800, UN3072, and UN3166” to read “except for UN2800, UN2807, UN3072, UN3166 and UN3171” for consistency with the preamble discussion to § 172.202(a) in the final rule published under docket number HM-215I.

Section 172.302

This section establishes general marking requirements for bulk packaging. In paragraph (f), we are revising the last sentence to clarify the example illustrating a circumstance for which a bulk packaging need not be remarked to conform to revisions made in the shipping name of the material it contains.

Section 172.303

This section addresses prohibited marking. In paragraph (a), we are adding the clarifying language “or any other markings indicating that the material is hazardous (e.g., RQ, INHALATION HAZARD)” for consistency with the language used elsewhere in the HMR.

Section 172.505

This section sets forth requirements for placarding for subsidiary hazards. In paragraph (a), we are correcting the reference “§ 172.203(m)(2)” to read “§ 172.203(m).” Paragraphs (m)(1) and (m)(2) were combined into a single paragraph (m) in a final rule published under docket number HM-189Y (70 FR 56804; September 23, 2005).

Part 173

Section 173.6

This section establishes exceptions from certain HMR requirements for materials of trade. In paragraph (a)(4), we are correcting the word “movement” to read “shifting” for consistency with the language used in paragraphs (b)(1) and (b)(3).

Section 173.22

This section sets forth general shipper responsibilities. In paragraph (c)(2), we are removing the acronym “PHMSA” following the wording “Associate Administrator,” because it is unnecessary. Section 171.8 defines the term “Associate Administrator” to mean the Associate Administrator for Hazardous Materials Safety, Pipeline and Hazardous Materials Safety Administration.

Section 173.31

This section establishes requirements for the use of railroad tank cars. Paragraph (g) of this section addresses tank car loading and unloading requirements. In paragraph (g)(1), we are revising the wording “unloader” to read “each hazmat employee who is responsible for loading or unloading” to clarify that the requirements of this section apply to both loading and unloading operations. In addition, we are correcting the wording “blocked” to read “locked.” In paragraph (g)(2), we are revising the language regarding the design and display of caution signs for consistency with the language used in § 174.67(a)(4).

Section 173.132

This section contains classification criteria for Division 6.1 materials. In the HM-215I final rule, we revised the toxicity criteria for Division 6.1 materials in § 173.133 to be consistent with the toxicity criteria adopted in the United Nations Recommendations on the Transport of Dangerous Goods (UN Recommendations). However, the Division 6.1 definition in § 173.132(a) was overlooked. Therefore, in paragraph (a), we are revising the definition of oral toxicity and inhalation toxicity to be consistent with our earlier amendments to § 173.133. Also, in paragraph (a)(1)(iii)(B), we are correcting the measurement unit “mL/mm³ ” to read “mL/m³.”

Section 173.134

This section contains classification criteria and establishes exceptions from certain HMR requirements for Division 6.2 materials. In paragraph (a)(8), we are correcting the wording “diagnostic specimen” to read “patient specimen” for consistency with changes made in a final rule published under docket number HM-226A (71 FR 32244; July 6, 2006).

Sections 173.150, 173.151, 173.152, and 173.154

These sections establish exceptions from certain HMR requirements for Class 3, Class 4, Division 5.1, Division 5.2, and Class 8 materials. We are revising the limited quantity provisions in each of these sections to clarify that the labeling exception is not granted to materials with a Division 6.1 subsidiary hazard. The amendments disallowing the labeling exception for limited quantities of Division 6.1 materials were included in a final rule under docket number HM-215G (69 FR 76044; December 20, 2004), but were inadvertently omitted when these provisions were revised under HM-228 (71 FR 14586; March 22, 2006).

Additionally, in § 173.150(d)(2) pertaining to the carriage of alcoholic beverages as checked or carry-on baggage, we are correcting the reference “175.10(a)(17)” to read “§ 175.10(a)(4).”

Section 173.199

This section establishes packaging requirements for Category B infectious substances. In paragraph (a) introductory text, we are correcting an obsolete section reference.

Section 173.225

This section sets forth packaging requirements for organic peroxides. In paragraph (c), we are removing “≥” from Note 17 of the Organic Peroxide Table and adding “≤” to correct a typographical error.

Section 173.244

This section sets forth bulk packaging requirements for certain Division 4.2, 4.3, and 6.1 materials. We are adding a sentence to the end of paragraph (c) to clarify DOT 51 and UN portable tanks used to transport Division 6.1 liquids, Hazard Zone A or B, must be certified and stamped to the ASME Code as prescribed in § 178.273(b)(6).

Section 173.411

This section establishes requirements for industrial packaging used to transport Class 7 materials. In paragraph (b)(5), we are removing the section citations to §§ 178.270, 178.271, and 178.272 because the manufacture of portable tanks to the IM 101 and 102 specifications is no longer authorized.

Part 174

Section 174.67

Section 174.67 prescribes procedures for conducting transloading operations involving railroad tank cars. In paragraphs (a)(2), (a)(3), and (a)(4), we are revising the wording “the unloader” to read “each hazmat employee who is responsible for unloading” for clarity. Also, in a final rule published under docket number HM-223 (68 FR 61941; October 30, 2003), we redesignated paragraph (a)(4) containing precautions when venting a tank car as paragraph (a)(6) but failed to include the newly redesignated paragraph in the regulatory text. Paragraph (a)(6) is added in this final rule.

Part 175

Section 175.8

This section contains exceptions from certain HMR requirements for operator equipment and replacement items transported by aircraft. In paragraph (a)(3)(ii), we are correcting the reference “§ 175.75(a)” to read “§ 175.75(c)”.

Section 175.75

This section establishes cargo limitation and stowage requirements for hazardous materials transported by aircraft. At the end of paragraph (e)(3), we are removing the word “and” and adding a period. The requirements in paragraphs (e)(3) and (e)(4) are stand-alone requirements. Paragraph (e)(3), which outlines conditions for hazardous materials transported on board a cargo aircraft, includes a requirement for written approval by FAA. Paragraph (e)(4), which outlines conditions for hazardous materials transported on board a small, single pilot, cargo aircraft, does not include a requirement for FAA approval.

Also, in paragraph (e)(5), we are revising the “Quantity and Loading Tables” to correct the formatting errors.

Part 176

Section 176.83

We are reprinting the “Segregation of Cargo Transport Units on Board Hatchless Container Ships” table in § 176.83(l) to correct formatting errors.

Part 178

Sections 178.270-12, 178.270-13, and 178.270-14

These sections establish requirements for IM 101 and 102 portable tanks. Most sections applicable to these portable tanks were removed from the HMR in a final rule under docket number HM-189Z (71 FR 54388; September 14, 2006) because the manufacture of IM portable tanks is no longer authorized. These sections were inadvertently not omitted from that final rule.

Section 178.273

This section sets forth requirements for approval of specification IM portable tanks and UN portable tanks. We are revising the section title and paragraph (e)(1) to remove references to the IM portable tanks because manufacture of those tanks is no longer authorized. Also, in paragraph (b)(7)(ii), we are removing the wording “§ 178.270-14 of this subchapter for IM portable tanks, § 178.245-6 for Specification 51 steel portable tanks, or”.

Section 178.274

This section contains specifications for UN portable tanks. We are revising paragraph (b)(1) to clarify that portable tanks used for Zone A or B toxic by inhalation liquids are required to have an ASME certification and U stamp as prescribed in § 178.273(b)(6).

Section 178.348-4

This section specifies pressure relief requirements for DOT 412 cargo tanks. In paragraph (d)(3), we are removing a reference to a formula in obsolete § 178.270-11(d)(3) and inserting the formula, expressed in nonmetric units, that had been contained in the referenced section. Section 178.270-11 was removed in a final rule under docket number HM-189Z.

Section 178.606

This section establishes requirements for performing the stacking test to ensure that non-bulk packagings conform to the performance standard established in the HMR. In paragraph (c)(2)(ii), in the stacking test requirements for a packaging intended for solids, we are correcting the formula to include a constant of 2.2 (lbs/kg) to convert the units on the right side of the formula to pounds for consistency with the units of variable “A” in the formula. In addition, we are including explanations of the multipliers “2.2” and “.98” in the formula for liquids.

Part 179

Section 179.300-19

This section addresses inspection requirements for newly constructed rail tank cars. In paragraph (a), we are revising the wording “acceptable to the Bureau of Explosives” to read “as approved by the Associate Administrator for Safety, FRA.” These approvals are no longer handled by the Bureau of Explosives.

Part 180

Section 180.209

This section establishes requalification requirements for cylinders. In the table in paragraph (i)(1), we are correcting “3 to 20 years” to read “5 to 20 years” for the initial porous filler requalification of acetylene cylinders manufactured on or after January 1, 1991. The change from 3 years to 5 years, adopted in a final rule published under docket number HM 218B, is correctly stated in footnote 2 following the table.

Section 180.212

This section specifies requirements for repair of seamless DOT specification and UN cylinders. In paragraph (b)(2), we are revising the wording to clarify that rethreading of cylinders may be performed by a manufacturer of the type of cylinder being rethreaded instead of limiting the work to the original manufacturer, who may no longer be in business. This revised wording is consistent with the wording used in paragraph (b)(1).

Section 180.215

This section establishes reporting and record-retention requirements related to the qualification, maintenance, and use of cylinders. We are correcting paragraph (b) by adding the words “, if present” after “manufacturer's name or symbol” to alleviate confusion by cylinder requalifiers.

III. Regulatory Analyses and Notices

A. Executive Order 12866 and DOT Regulatory Policies and Procedures

This final rule is not considered a significant regulatory action under section 3(f) of Executive Order 12866 and, therefore, was not reviewed by the Office of Management and Budget. This rule is not significant under the Regulatory Policies and Procedures of the Department of Transportation (44 FR 11034). This final rule does not impose new or revised requirements for hazardous materials shippers or carriers; therefore, it is not necessary to prepare a regulatory impact analysis.

B. Executive Order 13132

This final rule has been analyzed in accordance with the principles and criteria in Executive Order 13132 (“Federalism”). This final rule does not adopt any regulation that: (1) Has substantial direct effects on the States, the relationship between the national government and the States, or the distribution of power and responsibilities among the various levels of government; or (2) imposes substantial direct compliance costs on State and local governments. PHMSA is not aware of any State, local or Indian tribe requirements that would be preempted by correcting editorial errors and making minor regulatory changes. This final rule does not have sufficient federalism impacts to warrant the preparation of a federalism assessment.

C. Executive Order 13175

This final rule has been analyzed in accordance with the principles and criteria contained in Executive Order 13175 (“Consultation and Coordination with Indian Tribal Governments”). Because this final rule does not have tribal implications, does not impose substantial direct compliance costs on Indian tribal governments, and does not preempt tribal law, the funding and consultation requirements of Executive Order 13175 do not apply, and a tribal summary impact statement is not required.

D. Regulatory Flexibility Act, Executive Order 13272, and DOT Procedures and Policies

I certify that this final rule will not have a significant economic impact on a substantial number of small entities. This rule makes minor editorial changes which will not impose any new requirements on persons subject to the HMR; thus, there are no direct or indirect adverse economic impacts for small units of government, businesses or other organizations.

E. Unfunded Mandates Reform Act of 1995

This rule does not impose unfunded mandates under the Unfunded Mandates Reform Act of 1995. It does not result in costs of $120.7 million or more to either State, local, or tribal governments, in the aggregate, or to the private sector, and is the least burdensome alternative that achieves the objective of the rule.

F. Paperwork Reduction Act

There are no new information collection requirements in this final rule.

G. Environmental Impact Analysis

There are no environmental impacts associated with this final rule.

H. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

List of Subjects

49 CFR Part 105

Administrative practice and procedure, Hazardous materials transportation.

49 CFR Part 106

Administrative practice and procedure, Hazardous materials transportation.

49 CFR Part 107

Administrative practice and procedure, Hazardous materials transportation, Packaging and containers, Penalties, Reporting and recordkeeping requirements.

49 CFR Part 110

Disaster assistance, Education, Grants program-environmental protection, Grants program-Indians, Hazardous materials transportation, Hazardous substances, Indians, Reporting and recordkeeping requirements.

49 CFR Part 130

Oil pollution, Packaging and containers, Reporting and recordkeeping requirements, Transportation.

49 CFR Part 171

Exports, Hazardous materials transportation, Hazardous waste, Incorporated by reference, Imports, Reporting and recordkeeping requirements.

49 CFR Part 172

Education, Hazardous materials transportation, Hazardous waste, Labeling, Packaging and containers, Reporting and recordkeeping requirements.

49 CFR Part 173

Hazardous materials transportation, Packaging and containers, Radioactive materials, Reporting and recordkeeping requirements, Uranium.

49 CFR Part 174

Hazardous materials transportation, Radioactive materials, Rail carriers, Railroad safety, Reporting and recordkeeping requirements.

49 CFR Part 175

Air carriers, Hazardous materials transportation, Radioactive materials, Reporting and recordkeeping requirements.

49 CFR Part 176

Hazardous materials transportation, Maritime carriers, Radioactive materials, Reporting and recordkeeping requirements.

49 CFR Part 178

Hazardous materials transportation, Motor vehicle safety, Packaging and containers, Reporting and recordkeeping requirements.

49 CFR Part 179

Hazardous materials transportation, Packaging and containers, Railroad safety, Reporting and recordkeeping requirements.

49 CFR Part 180

Hazardous materials transportation, Motor carriers, Motor vehicle safety, Packaging and containers, Railroad safety, Reporting and recordkeeping requirements.

In consideration of the foregoing, 49 CFR Chapter I is amended as follows:

PART 105—HAZARDOUS MATERIALS PROGRAM DEFINITIONS AND GENERAL PROCEDURES

1. The authority citation for part 105 continues to read as follows:

Authority: 49 U.S.C. 5101-5128, 49 CFR 1.53.

§§ 105.20, 105.25, and 105.40 [Amended]

2. In part 105, remove the wording “400 7th Street, SW.” and add in its place “East Building, 1200 New Jersey Avenue, SE.” in the following places:

a. Section 105.20(a)(4);

b. Section 105.20(b)(3);

c. Section 105.25(b)(4); and

d. Section 105.40(d).

3. In § 105.25, paragraph (a) introductory text and paragraph (b)(2)(iv) are revised to read as follows:

§ 105.25 Reviewing public documents.

* * * * *

(a) DOT Docket Management System. Unless a particular document says otherwise, the following documents are available for public review and copying at the Department of Transportation's Docket Management System, West Building Ground Floor, Room W12-140, 1200 New Jersey Avenue, SE., Washington, DC 20590-0001, or for review and downloading through the Internet at http://www.regulations.gov.

* * * * *

(b) * * *

(2) * * *

(iv) Applications for special permits numbered below DOT-E or DOT-SP 11832 and related background information are available for public review and copying at the Office of Hazardous Materials Safety, Office of Hazardous Materials Special Permits and Approvals, U.S. Department of Transportation, PHH-30, East Building, 1200 New Jersey Avenue, SE., Washington, DC 20590-0001.

* * * * *

4. In § 105.35, paragraph (b)(3)(ii) is revised to read as follows:

§ 105.35 Serving documents in PHMSA proceedings.

* * * * *

(b) * * *

(3) * * *

(ii) Serve documents electronically through the Internet at http://www.regulations.gov.

PART 106—RULEMAKING PROCEDURES

5. The authority citation for part 106 continues to read as follows:

Authority: 49 U.S.C. 5101-5128, 49 CFR 1.53.

§§ 106.75, 106.85, and 106.125 [Amended]

6. In part 106, remove the wording “Room PL 401, 400 7th Street, SW.” and add in its place “West Building Ground Floor, Room W12-140, 1200 New Jersey Avenue, SE.” in the following places:

a. Section 106.75(d);

b. Section 106.85(a); and

c. Section 106.125.

7. In § 106.45, paragraph (a)(2)(i) and (a)(2)(ii) are revised to read as follows:

§ 106.45 Tracking rulemaking actions.

* * * * *

(a) * * *

(2) * * *

(i) Visit the public docket room and review and copy any docketed materials during regular business hours. The DOT Docket Management System is located at the U.S. Department of Transportation, West Building Ground Floor, Room W12-140, 1200 New Jersey Avenue, SE., Washington, DC 20590-0001.

(ii) View and download docketed materials through the Internet at http://www.regulations.gov.

* * * * *

8. In § 106.70, paragraph (a)(1) and (a)(2) are revised to read as follows:

§ 106.70 Where and when to file comments.

(a) * * *

(1) By mail to: Docket Management System, U.S. Department of Transportation, West Building Ground Floor, Room W12-140, 1200 New Jersey Avenue, SE., Washington, DC 20590-0001.

(2) Through the Internet at http://www.regulations.gov.

* * * * *

§ 106.95 [Amended]

9. In § 106.95, in paragraphs (a) and (b), remove the wording “400 7th Street, SW.” and add in its place “East Building, 1200 New Jersey Avenue, SE.” in each place it appears.

PART 107—HAZARDOUS MATERIALS PROGRAM PROCEDURES

10. The authority citation for part 107 continues to read as follows:

Authority: 49 U.S.C. 5101-5128, 44701; Pub. L. 101-410 section 4 (28 U.S.C. 2461 note); Pub. L. 104-121 sections 212-213; Pub. L. 104-134 section 31001; 49 CFR 1.45, 1.53.

§§ 107.105, 107.107, 107.109, and 107.705 [Amended]

11. In part 107, remove the wording “400 7th Street, SW.” and add in its place “East Building, 1200 New Jersey Avenue, SE.” in the following places:

a. Section 107.105(a)(1);

b. Section 107.107(b)(1);

c. Section 107.109(a)(1); and

d. Section 107.705(a)(1).

§§ 107.325 and 107.402 [Amended]

12. In part 107, remove the wording “400 Seventh Street, SW.” and add in its place “East Building, 1200 New Jersey Avenue, SE.” in the following places:

a. Section 107.325(a) and (b); and

b. Section 107.402(a).

§§ 107.203 and 107.215 [Amended]

13. In part 107, remove the wording “400 7th Street, SW., Suite 8417” and add in its place “East Building, PHC-1, 1200 New Jersey Avenue, SE.” in the following places:

a. Section 107.203(b)(1)(i); and

b. Section 107.215(b)(1)(i).

§ 107.127 [Amended]

14. In § 107.127, in paragraph (a), remove the wording “400 7th Street, SW., Washington, DC 20590-0001, Room 8102” and add in its place “East Building, PHH-30, 1200 New Jersey Avenue, SE., Washington, DC 20590-0001” and remove the wording “http://dms.dot.gov.” and add in its place “http://www.regulations.gov.”.

§ 107.502 [Amended]

15. In § 107.502, in paragraph (d), remove the wording “Room 8310, 400 7th Street, SW” and add in its place “West Building, MC-ECH, 1200 New Jersey Avenue, SE.”.

16. In § 107.608, paragraph (a) is revised to read as follows:

§ 107.608 General registration requirements.

(a) Each person subject to this subpart must submit a complete and accurate registration statement on DOT Form F 5800.2 not later than June 30 for each registration year, or in time to comply with paragraph (b) of this section, whichever is later. Each registration year begins on July 1 and ends on June 30 of the following year.

* * * * *

PART 110—HAZARDOUS MATERIALS PUBLIC SECTOR TRAINING AND PLANNING GRANTS

17. The authority citation for part 110 continues to read as follows:

Authority: 49 U.S.C. 5101-5128; 1.53.

§§ 110.30 and 110.120 [Amended]

18. In part 110, remove the wording “400 7th Street, SW.” and add in its place “East Building, 1200 New Jersey Avenue, SE.” in the following places:

a. Section 110.30(a) introductory text; and

b. Section 110.120.

§ 110.5 [Amended]

19. In § 110.5, in paragraph (c), remove the wording “400 Seventh Street, SW.” and add in its place “East Building, 1200 New Jersey Avenue, SE.”.

PART 130—OIL SPILL PREVENTION AND RESPONSE PLANS

20. The authority citation for part 110 continues to read as follows:

Authority: 33 U.S.C. 1321.

§ 130.31 [Amended]

21. In § 130.31, in paragraph (b)(6), remove the wording “400 Seventh Street, SW” and add in its place “East Building, 1200 New Jersey Avenue, SE.”.

PART 171—GENERAL INFORMATION, REGULATIONS, AND DEFINITIONS

22. The authority citation for part 171 continues to read as follows:

Authority: 49 U.S.C. 5101-5128, 44701; 49 CFR 1.45 and 1.53; Pub. L. 101-410 section 4 (28 U.S.C. 2461 note); Pub. L. 104-134 section 31001.

23. In § 171.6, in the table in paragraph (b)(2), the entry for OMB Control No. “2137-0557” is revised to read as follows:

§ 171.6 Control numbers under the Paperwork Reduction Act.

* * * * *

(b) * * *

(2) Table.

Current OMB Control No. | Title | Title 49 CFR part or section where identified and described
* * * * * * *
2137-0557 | Approvals for Hazardous Materials | §§ 107.402, 107.403, 107.405, 107.502, 107.503, 107.705, 107.713, 107.715, 107.717, 107.803, 107.805, 107.807, 110.30, 172.101, 172.102, Special Provisions 19, 26, 53, 55, 60, 105, 118, 121, 125, 129, 131, 133, 136, B45, B55, B61, B69, B77, B81, N10, N72, 173.2a, 173.4, 173.7, 173.21, 173.22, 173.24, 173.31, 173.38, 173.51, 173.56, 173.58, 173.59, 173.124, 173.128, 173.159, 173.166, 173.171, 173.214, 173.222, 173.224, 173.225, 173.245, 173.301, 173.305, 173.306, 173.314, 173.315, 173.316, 173.318, 173.334, 173.340, 173.411, 173.433, 173.457, 173.471, 173.472, 173.476, 174.50, 174.63, 175.8, 175.85, 175.701, 175.703, 176.168, 176.340, 176.704, 178.3, 178.35, 178.47, 178.53, 178.273, 178.274, 178.503, 178.509, 178.605, 178.606, 178.608, 178.801, 178.813, 180.213.
* * * * * * *

24. In § 171.7, make the following changes:

a. Revise paragraph (a)(2)(i);

b. In the table in paragraph (a)(3), under “American Petroleum Institute”, revise the entry “API Recommended Practice Closures of Underground Petroleum Storage Tanks, 3rd Edition, March 1996”;

c. In the table in paragraph (a)(3), under “American Society of Mechanical Engineers”, revise the entry “ASME Code, Sections II (Parts A and B), V, VIII (Division 1), and IX of 1998 Edition of American Society of Mechanical Engineers Boiler and Pressure Vessel Code”;

d. In the table in paragraph (a)(3) under “International Organization for Standardization”, remove the entry “ISO 82-74(E) Steels Tensile Testing”; and

e. In the table in paragraph (a)(3), under “United Nations”, for the entry “UN Recommendations on the Transport of Dangerous Goods, Fourteenth Revised Edition (2005), Volumes I and II”, in the second column, remove reference citation “171.28” and add in its place “171.12”.

The revisions read as follows:

§ 171.7 Reference material.

(a) * * *

(2) * * *

(i) The Office of Hazardous Materials Safety, Office of Hazardous Materials Standards, East Building, PHH-10, 1200 New Jersey Avenue, SE., Washington, DC 20590-0001; and

* * * * *

(3) Table of material incorporated by reference. * * *

Source and name of material | 49 CFR reference
* * * * * * *
API Recommended Practice Closures of Underground Petroleum Storage Tanks, 3rd Edition, March 1996 | 172.102.
* * * * * * *
ASME Code, Sections II (Parts A and B), V, VIII (Division 1), and IX of 1998 Edition of American Society of Mechanical Engineers Boiler and Pressure Vessel Code | 172.102; 173.24b; 173.32; 173.306; 173.315; 173.318; 173.420; 178.245-1; 178.245-3; 178.245-4; 178.245-6; 178.245-7; 178.255-1; 178.255-2; 178.255-14; 178.255-15; 178.273; 178.274; 178.276; 178.277; 178.320; 178.337-1; 178.337-2; 178.337-3; 178.337-4; 178.337-6; 178.337-16; 178.337-18; 178.338-1; 178.338-2; 178.338-3; 178.338-3; 178.338-4; 178.338-5; 178.338-6; 178.338-13; 178.338-16; 178.338-18; 178.338-19; 178.345-1; 178.345-2; 178.345-3; 178.345-4; 178.345-7; 178.345-14; 178.345-15; 178.346-1; 178.347-1; 178.348-1; 179.400-3; 180.407.
* * * * * * *
UN Recommendations on the Transport of Dangerous Goods, Fourteenth Revised Edition (2005), Volumes I and II | 171.8; 171.12; 172.202; 172.401; 172.502; 173.22; 173.24; 173.24b; 173.40; 173.56; 173.192; 173.197; 173.302b; 173.304b; 178.75; 178.274; 178.801.
* * * * * * *

25. In § 171.8, the definitions for Administrator and Shipping paper are revised to read as follows:

§ 171.8 Definitions and abbreviations.

* * * * *

Administrator means the Administrator, Pipeline and Hazardous Materials Safety Administration.

* * * * *

Shipping paper means a shipping order, bill of lading, manifest or other shipping document serving a similar purpose and prepared in accordance with subpart C of part 172 of this chapter.

* * * * *

§ 171.14 [Amended]

26. In § 171.14, in paragraph (d)(6), the reference citation “172.202(a)(6)” is revised to read “172.202(a)(7)”.

27. In § 171.15, paragraph (b)(3) is revised to read as follows:

§ 171.15 Immediate notice of certain hazardous materials incidents.

* * * * *

(b) * * *

(3) Fire, breakage, spillage, or suspected contamination occurs involving an infectious substance other than a regulated medical waste;

* * * * *

28. In § 171.22, the section heading is revised to read as follows:

§ 171.22 Authorization and conditions for the use of international standards and regulations.

* * * * *

28a. In § 171.23, paragraph (b)(5) introductory text is revised to read as follows:

§ 171.23 Requirements for specific materials and packagings transported under the ICAO Technical Instructions, IMDG Code, Transport Canada TDG Regulations, or the IAEA Regulations.

* * * * *

(b) * * *

(5) Hazardous substances. A material meeting the definition of a hazardous substance as defined in § 171.8, must conform to the shipping paper requirements in § 172.203(c) of this subchapter and the marking requirements in § 172.324 of this subchapter:

* * * * *

PART 172—HAZARDOUS MATERIALS TABLE, SPECIAL PROVISIONS, HAZARDOUS MATERIALS COMMUNICATIONS, EMERGENCY RESPONSE INFORMATION, AND TRAINING REQUIREMENTS

29. The authority citation for part 172 continues to read as follows:

Authority: 49 U.S.C. 5101-5128, 44701; 49 CFR 1.53.

30. In § 172.101, the Hazardous Materials Table is amended by removing, adding and revising entries, in the appropriate alphabetical sequence, to read as follows:

§ 172.101.—Hazardous Materials Table
Symbols | Hazardous mate- rials descriptions and proper ship- ping names | Hazard class or division | Identifi- cation numbers | PG | Label codes | Special provisions (§ 172.102) | (8) Packaging (§ 173.***): Exceptions | (8) Packaging (§ 173.***): Non-bulk | (8) Packaging (§ 173.***): Bulk | (9) Quantity limitations: Passenger aircraft/rail | (9) Quantity limitations: Cargo air- craft only | (10) Vessel stowage: Location | (10) Vessel stowage: Other
(1) | (2) | (3) | (4) | (5) | (6) | (7) | (8A) | (8B) | (8C) | (9A) | (9B) | (10A) | (10B)
| [REMOVE]
* * * * * * *
I | Ammonia, anhydrous | 2.3 | UN1005 |  | 2.3, 8 | 4, T50 | None | 304 | 314, 315 | Forbidden | Forbidden | D | 40, 52, 57
D | Ammonia, anhydrous | 2.2 | UN1005 |  | 2.2 | 13, T50 | None | 304 | 314, 315 | Forbidden | Forbidden | D | 40, 52, 57
D | Ammonia solution, relative density less than 0.880 at 15 degrees C in water, with more than 50 percent ammonia | 2.2 | UN3318 |  | 2.2 | 13, T50 | None | 304 | 314, 315 | Forbidden | Forbidden | D | 40, 52, 57
I | Ammonia solution, relative density less than 0.880 at 15 degrees C in water, with more than 50 percent ammonia | 2.3 | UN3318 |  | 2.3, 8 | 4, T50 | None | 304 | 314, 315 | Forbidden | Forbidden | D | 40, 52, 57
| Ammonia solutions, relative density between 0.880 and 0.957 at 15 degrees C in water, with more than 10 percent but not more than 35 percent ammonia | 8 | UN2672 | III | 8 | IB3, IP8, T7, TP1 | 154 | 203 | 241 | 5 L | 60 L | A | 40, 52, 85
| Ammonia solutions, relative density less than 0.880 at 15 degrees C in water, with more than 35 percent but not more than 50 percent ammonia | 2.2 | UN2073 |  | 2.2 |  | 306 | 304 | 314, 315 | Forbidden | 150 kg | E | 40, 52, 57
I | Ammonia, anhydrous | 2.3 | UN1005 |  | 2.3, 8 | 4, N87, T50 | None | 304 | 314, 315 | Forbidden | Forbidden | D | 40, 57
D | Ammonia, anhydrous | 2.2 | UN1005 |  | 2.2 | 13, T50 | None | 304 | 314, 315 | Forbidden | Forbidden | D | 40, 57
I | Ammonia solution, relative density less than 0.880 at 15 degrees C in water, with more than 50 percent ammonia | 2.3 | UN3318 |  | 2.3, 8 | 4, N87, T50 | None | 304 | 314, 315 | Forbidden | Forbidden | D | 40, 57
* * * * * * *
I | Ammonia solutions, relative density less than 0.880 at 15 degrees C in water, with more than 35 percent but not more than 50 percent ammonia | 2.3 | UN3318 |  | 2.3, 8 | 4, T50 | None | 304 | 314, 315 | Forbidden | Forbidden | D | 40, 57
| Ammonia solutions, relative density between 0.880 and 0.957 at 15 degrees C in water, with more than 10 percent but not more than 35 percent ammonia | 8 | UN2672 | III | 8 | IB3, IP8, T7, TP1 | 154 | 203 | 241 | 5 L | 60 L | A | 40, 85
| Ammonia solutions, relative density less than 0.880 at 15 degrees C in water, with more than 35 percent but not more than 50 percent ammonia | 2.2 | UN2073 |  | 2.2 | N87 | 306 | 304 | 314, 315 | Forbidden | 150 kg | E | 40, 57
* * * * * * *
G | Articles, explosive, n.o.s | 1.2D | UN0467I | I | 1.2D |  | None | 62 | None | Forbidden | Forbidden | 07
* * * * * * *
| Crotonaldehyde or Crotonaldehyde, stabilized | 6.1 | UN1143 | I | 6.1, 3 | 2, 175, B9, B14, B32, B74, B77, T20, TP2, TP13, TP38, TP45 | None | 227 | 244 | Forbidden | Forbidden | B | 40
* * * * * * *
| Helium-oxygen mixture, see Rare gases and oxygen mixtures
* * * * * * *
| Hydrogendifluorides, solid, n.o.s | 8 | UN1740 | II | 8 | IB8, IP2, IP4, N3, N34, T3, TP33 | None | 212 | 240 | 15 kg | 50 kg | A | 25, 40, 52
|  |  |  | III | 8 | IB8, IP3, N3, N34, T1, TP33 | 154 | 213 | 240 | 25 kg | 100 kg | A | 25, 40, 52
* * * * * * *
| Nitrocellulose, with not more than 12.6 percent nitrogen, by dry mass, or Nitrocellulose mixture with pigment or Nitrocellulose mixture with plasticizer or Nitrocellulose mixture with pigment and plasticizer | 4.1 | UN2557 | II | 4.1 | 44 | 151 | 212 | None | 1 kg | 15 kg | D | 28
* * * * * * *
| Nitrogen, mixtures with rare gases, see Rare gases and nitrogen mixtures
* * * * * * *
| 4-Nitrophenylhydrazine, with not less than 30% water, by mass | 4.1 | UN3376 | I | 4.1 | 164, A8, A19, A20, N41 | None | 211 | None | Forbidden | 15 kg | E | 36
* * * * * * *
G | Organoarsenic compound, liquid, n.o.s | 6.1 | UN3280 | I | 5, T14, TP2, TP13, TP27 | None | 201 | 242 | 1 L | 30 L | B | 6.1
|  |  |  | II | 6.1 | IB2, T11, TP2, TP27 | 153 | 202 | 242 | 5 L | 60 L | B. |
|  |  |  | III | 6.1 | IB3, T7, TP1, TP28 | 153 | 203 | 241 | 60 L | 220 L | A
* * * * * * *
| Oxygen, mixtures with rare gases, see Rare gases and oxygen mixtures
| Paint or Paint related materials | 8 | UN3066 | II | 8 | B2, IB2, T7, TP2, TP28 | 154 | 173 | 242 | 1 L | 30 L | A
* * * * * * *
|  |  |  | III | 8 | B52, IB3, T4, TP1, TP29 | 154 | 173 | 241 | 5 L | 60 L | A. |
* * * * * * *
| Paint related material, flammable, corrosive (including paint thinning or reducing compound | 3 | UN3469 | I | 3, 8 | T11, TP2, TP27 | None | 201 | 243 | 0.5 L | 2.5 L | E | 40
* * * * * * *
|  |  |  | II | 3, 8 | IB2, T7, TP2, TP8, TP28 | 150 | 202 | 243 | 1 L | 5 L | B | 40
|  |  |  | III | 3, 8 | IB3, T4, TP1, TP29 | 150 | 203 | 242 | 5 L | 60 L | A | 40
* * * * * * *
| [ADD].
* * * * * * *
I | Ammonia, anhydrous | 2.3 | UN1005 |  | 2.3, 8 | 4, N87, T50 | None | 304 | 314, 315 | Forbidden | Forbidden | D | 40, 52, 57
D | Ammonia, anhydrous | 2.2 | UN1005 |  | 2.2 | 13, T50 | None | 304 | 314, 315 | Forbidden | Forbidden | D | 40, 52, 57
I | Ammonia solution, relative density less than 0.880 at 15 degrees C in water, with more than 50 percent ammonia | 2.3 | UN3318 |  | 2.3, 8 | 4, N87, T50 | None | 304 | 314, 315 | Forbidden | Forbidden | D | 40, 52, 57
D | Ammonia solution, relative density less than 0.880 at 15 degrees C in water, with more than 50 percent ammonia | 2.2 | UN3318 |  | 2.2 | 13, T50 | None | 304 | 314, 315 | Forbidden | Forbidden | D | 40, 52, 57
| Ammonia solutions, relative density less than 0.880 at 15 degrees C in water, with more than 35 percent but not more than 50 percent ammonia | 2.2 | UN2073 |  | 2.2 | N87 | 306 | 304 | 314, 315 | Forbidden | 150 kg | E | 40, 52, 57
| Ammonia solution, relative density between 0.880 and 0.957 at 15 degrees C in water, with more than 10 percent but not more than 35 percent ammonia | 8 | UN2672 | III | 8 | IB3, IP8, T7, TP1 | 154 | 203 | 241 | 5 L | 60 L | A | 40, 52, 85
* * * * * * *
G | Articles, explosive, n.o.s | 1.2D | UN0467 | II | 1.2D |  | None | 62 | None | Forbidden | Forbidden | 07.
* * * * * * *
| Crotonaldehyde or Crotonaldehyde, stabilized | 6.1 | UN1143 | I | 6.1, 3 | 2, 175, B9, B14, B32, B74, B77, T20, TP2, TP13, TP38, TP45 | None | 227 | 244 | Forbidden | Forbidden | B | 40
* * * * * * *
| Hydrogendifluoride, solid, n.o.s | 8 | UN1740 | II | 8 | IB8, IP2, IP4, N3, N34, T3, TP33 | None | 212 | 240 | 15 kg | 50 kg | A | 25, 40, 52
|  |  |  | III | 8 | IB8, IP3, N3, N34, T1, TP33 | 154 | 213 | 240 | 25 kg | 100 kg | A | 25, 40, 52
* * * * * * *
| Nitrocellulose, with not more than 12.6 percent, by dry mass mixture with or without plasticizer, with or without pigment | 4.1 | UN2557 | II | 4.1 | 44 | 151 | 212 | None | 1 kg | 15 kg | D | 28
* * * * * * *
| 4-Nitrophenylhydrazine, with not less than 30 percent water, by mass | 4.1 | UN3376 | I | 4.1 | 162, A8, A19, A20, N41 | None | 211 | None | Forbidden | 15 kg | E | 36
* * * * * * *
G | Organoarsenic compound, liquid, n.o.s. | 6.1 | UN3280 | I | 6.1 | 5, T14, TP2, TP13, TP27 | None | 201 | 242 | 1 L | 30 L | B
|  |  |  | II | 6.1 | IB2, T11, TP2, TP27 | 153 | 202 | 242 | 5 L | 60 L | B
|  |  |  | III | 6.1 | IB3, T7, TP1, TP28 | 153 | 203 | 241 | 60 L | 220 L | A
* * * * * * *
| Paint or Paint related material | 8 | UN3066 | II | 8 | B2, IB2, T7, TP2, TP28 | 154 | 173 | 242 | 1 L | 30 L | A
|  |  |  | III | 8 | B52, IB3, T4, TP1, TP29 | 154 | 173 | 241 | 5 L | 60 L | A
* * * * * * *
| Paint related material, flammable, corrosive (including paint thinning or reducing compound) | 3 | UN3469 | I | 3, 8 | T11, TP2, TP27 | None | 201 | 243 | 0.5L | 2.5 L | E | 40
|  |  |  | II | 3, 8 | IB2, T7, TP2, TP8, TP28 | 150 | 202 | 243 | 1 L | 5 L | B | 40
|  |  |  | III | 3, 8 | IB3, T4, TP1, TP29 | 150 | 203 | 242 | 5 L | 60 L | A | 40
* * * * * * *
| [REVISE]
* * * * * * *
| Alcohols, n.o.s. | 3 | UN1987 | I | 3 | 172, T11, TP1, TP8, TP27 | None | 201 | 243 | 1 L | 30 L | E
|  |  |  | II | 3 | 172, IB2, T7, TP1, TP8, TP28 | 150 | 202 | 242 | 5 L | 60 L | B
|  |  |  | III | 3 | 172, B1, IB3, T4, TP1, TP29 | 150 | 203 | 242 | 60 L | 220 L | A.
* * * * * * *
G | Articles, explosive, n.o.s | 1.4G | UN0353 | II | 1.4G |  | None | 62 | None | Forbidden | 75 kg | 06
* * * * * * *
| Caesium hydroxide solution | 8 | UN2681 | II | 8 | B2, IB2, T7, TP2 | 154 | 202 | 242 | 1 L | 30 L | A | 29, 52
|  |  |  | III | 8 | IB3, T4, TP1 | 154 | 203 | 241 | 5 L | 60 L | A | 29, 52
* * * * * * *
G | Contrivances, water-activated, with burster, expelling charge or propelling charge | 1.2L | UN0248 | II | 1.2L | None | 62 | None | Forbidden | Forbidden | 08 | 8E, 14E, 15E, 17E
G | Contrivances, water-activated, with burster, expelling charge or propelling charge | 1.3L | UN0249 | II | 1.3L |  | None | 62 | None | Forbidden | Forbidden | 08 | 8E, 14E, 15E, 17E
* * * * * * *
| Hydrazine, aqueous solution, with more than 37% hydrazine, by mass | 8 | UN2030 | I | 8, 6.1 | B16, B53, T10, TP2, TP13 | None | 201 | 243 | Forbidden | 2.5 L | D | 40, 52
|  |  |  | II | 8, 6.1 | B16, B53, IB2, T7, TP2, TP13 | None | 202 | 243 | Forbidden | 30 L | D | 40, 52
|  |  |  | III | 8, 6.1 | B16, B53, IB3, T4, TP2 | 154 | 203 | 241 | 5 L | 60 L | D | 40, 52
* * * * * * *
| Hydrogen, peroxide, aqueous solutions with more than 40 percent but not more than 60 percent hydrogen peroxide (stabilized as necessary) | 5.1 | UN2014 | II | 5.1, 8 | 12, A60, B53, B80, B81, B85, IB2, IP5, T7, TP2, TP6, TP24, TP37 | None | 202 | 243 | Forbidden | Forbidden | D | 25, 66, 75
* * * * * * *
| Hydrogen, peroxide, aqueous solutions with not less than 8 percent but less than 20 percent hydrogen peroxide (stabilized as necessary) | 5.1 | UN2984 | III | 5.1 | A1, IB2, IP5, T4, TP1, TP6, TP24, TP37 | 152 | 203 | 241 | 2.5 L | 30 L | B | 25, 66, 75
* * * * * * *

* * * * *

§ 172.202 [Amended]

31. In § 172.202, in paragraph (a)(6)(vi), the wording “except for UN2800, UN3072, and UN3166” is removed and “except for UN2800, UN2807, UN3072, UN3166 and UN3171” is added in its place.

32. In § 172.302, the last sentence in paragraph (f) is revised to read as follows:

§ 172.302 General marking requirements for bulk packagings.

* * * * *

(f) * * * For example, a tank car marked “NITRIC OXIDE” need not be remarked “NITRIC OXIDE, COMPRESSED”.

* * * * *

33. In § 172.303, paragraph (a) is revised to read as follows:

§ 172.303 Prohibited marking.

(a) No person may offer for transportation or transport a package which is marked with the proper shipping name, the identification number of a hazardous material or any other markings indicating that the material is hazardous (e.g., RQ, INHALATION HAZARD) unless the package contains the identified hazardous material or its residue.

* * * * *

§ 172.505 [Amended]

34. In § 172.505, in paragraph (a), revise the reference citation “§ 172.203(m)(2)” to read “§ 172.203(m)”.

PART 173—SHIPPERS—GENERAL REQUIREMENTS FOR SHIPMENTS AND PACKAGINGS

35. The authority citation for part 173 continues to read as follows:

Authority: 49 U.S.C. 5101-5128, 44701; 49 CFR 1.45, 1.53.

§ 173.6 [Amended]

36. In § 173.6, in the last sentence in paragraph (a)(4) introductory text, revise the word “movement” to read “shifting”.

37. In § 173.22, paragraph (c)(2) is revised to read as follows:

§ 173.22 Shipper's Responsibility.

* * * * *

(c) * * *

(2) Equivalent requirements approved by the Associate Administrator.

§ 173.22a [Amended]

38. In § 173.22a, in paragraph (b), remove the wording “400 Seventh Street, SW.” and add in its place “East Building, 1200 New Jersey Avenue, SE.”.

39. In § 173.31, paragraphs (g)(1) and (g)(2) are revised to read as follows:

§ 173.31 Use of tank cars.

* * * * *

(g) * * *

(1) Each hazmat employee who is responsible for loading or unloading a tank car must secure access to the track to prevent entry by other rail equipment, including motorized service vehicles. Derails, lined and locked switches, portable bumper blocks, or other equipment that provides an equivalent level of security may be used to satisfy this requirement.

(2) Caution signs must be displayed on the track or on the tank cars to warn persons approaching the cars from the open end of the track and must be left up until after all closures are secured and the cars are in proper condition for transportation. The caution signs must be of metal or other durable material, rectangular, at 30.48 cm (12 inches) high by 38.10 cm (15 inches) wide, and bear the word “STOP.” The word “STOP” must appear in letters at least 10.16 cm (4 inches) high. The letters must be white on a blue background. Additional words, such as “Tank Car Connected” or “Crew at Work,” may also appear in white letters under the word “STOP.”

* * * * *

40. In § 173.132, paragraphs (a)(1)(i) and (a)(1)(iii) are revised to read as follows:

§ 173.132 Class 6, Division 6.1—Definitions.

* * * * *

(a) * * *

(1) * * *

(i) Oral Toxicity. A liquid or solid with an LD50 for acute oral toxicity of not more than 300 mg/kg.

(ii) * * *

(iii) Inhalation Toxicity. (A) A dust or mist with an LC50 for acute toxicity on inhalation of not more than 4 mg/L; or

(B) A material with a saturated vapor concentration in air at 20 °C (68 °F) greater than or equal to one-fifth of the LC50 for acute toxicity on inhalation of vapors and with an LC50 for acute toxicity on inhalation of vapors of not more than 5000 mL/m³; or

* * * * *

§ 173.134 [Amended]

41. In § 173.134, in paragraph (a)(8), the wording “diagnostic specimen” is revised to read “patient specimen”.

42. In § 173.150, the first sentence of paragraph (b) introductory text and paragraph (d)(2) are revised to read as follows:

§ 173.150 Exceptions for Class 3 (flammable and combustible liquids).

* * * * *

(b) Limited quantities. Limited quantities of flammable liquids (Class 3) and combustible liquids are excepted from labeling requirements, unless the material also meets the definition of Division 6.1 or is offered for transportation or transported by aircraft, and the specification packaging requirements of this subchapter when packaged in combination packagings according to this paragraph. * * *

* * * * *

(d) * * *

(2) Is in an inner packaging of 5 L (1.3 gallons) or less, and for transportation on passenger-carrying aircraft conforms to § 175.10(a)(4) of this subchapter as checked or carry-on baggage; or

* * * * *

43. In § 173.151, the first sentence of paragraph (b) introductory text and the first sentence of paragraph (d) introductory text are revised to read as follows:

§ 173.151 Exceptions for Class 4.

* * * * *

(b) Limited quantities of Division 4.1. Limited quantities of flammable solids (Division 4.1) in Packing Group II or III are excepted from labeling requirements, unless the material also meets the definition of Division 6.1 or is offered for transportation or transported by aircraft, and the specification packaging requirements of this subchapter when packaged in combination packagings according to this paragraph. * * *

* * * * *

(d) Limited quantities of Division 4.3. Limited quantities of Division 4.3 (dangerous when wet) solids in Packing Group II or III are excepted from labeling requirements, unless the material also meets the definition of Division 6.1 or is offered for transportation or transported by aircraft, and the specification packaging requirements of this subchapter when packaged in combination packagings according to this paragraph. * * *

* * * * *

44. In § 173.152, the first sentence of paragraph (b) introductory text is revised to read as follows:

§ 173.152 Exceptions for Division 5.1 (oxidizers) and Division 5.2 (organic peroxides).

* * * * *

(b) Limited quantities. Limited quantities of oxidizers (Division 5.1) in Packing Group II and III and organic peroxides (Division 5.2) are excepted from labeling requirements, unless the material also meets the definition of Division 6.1 or is offered for transportation or transported by aircraft, and the specification packaging requirements of this subchapter when packaged in combination packagings according to this paragraph. * * *

* * * * *

45. In § 173.154, the first sentence of paragraph (b) introductory text is revised to read as follows:

§ 173.154 Exceptions for Class 8 (corrosive materials).

* * * * *

(b) Limited quantities. Limited quantities of corrosive materials (Class 8) in Packing Group II and III are excepted from labeling requirements, unless the material also meets the definition of Division 6.1 or is offered for transportation or transported by aircraft, and the specification packaging requirements of this subchapter when packaged in combination packagings according to this paragraph. * * *

* * * * *

§ 173.199 [Amended]

46. In § 173.199, in paragraph (a) introductory text, the reference “§ 175.85” is revised to read “§ 175.75(b)”.

§ 173.225 [Amended]

47. In § 173.225, in paragraph (c), in Note 17 following the Organic Peroxide Table, remove the phrase “≥” and add “≤” in its place.

48. In § 173.244, paragraph (c) is revised to read as follows:

§ 173.244 Bulk packaging for certain pyrophoric liquids (Division 4.2), dangerous when wet (Division 4.3) materials, and poisonous liquids with inhalation hazards (Division 6.1).

* * * * *

(c) Portable tanks: DOT 51 portable tanks and UN portable tanks that meet the requirements of this subchapter, when a T code is specified in Column (7) of the § 172.101 Table of this subchapter for the specific hazardous material, are authorized. Additionally, a DOT 51 or UN portable tank used for Division 6.1 liquids, Hazard Zone A or B, must be certified and stamped to the ASME Code as specified in § 178.273(b)(6) of this subchapter.

49. In § 173.411, paragraph (b)(5) is revised to read as follows:

§ 173.411 Industrial packagings.

* * * * *

(b) * * *

(5) Tanks, other than tank containers, including DOT Specification IM 101 or IM 102 steel portable tanks, may be used as Industrial package Types 2 or 3 (Type IP-2) or (Type IP-3) for transporting LSA-I and LSA-II liquids and gases as prescribed in Table 6, provided that they conform to standards at least equivalent to those prescribed in paragraph (b)(4) of this section.

* * * * *

§ 173.471 [Amended]

50. In § 173.471, in paragraphs (d) and (e), remove the wording “400 Seventh Street, SW.” and add in its place “East Building, 1200 New Jersey Avenue, SE.”.

PART 174—CARRIAGE BY RAIL

51. The authority citation for part 174 continues to read as follows:

Authority: 49 U.S.C. 5101-5128; 49 CFR 1.53.

52. In § 174.67, make the following changes:

a. Revise paragraphs (a)(2), (a)(3), and (a)(4).

b. Add paragraph (a)(6).

The revisions and addition read as follows:

§ 174.67 Tank car unloading.

* * * * *

(a) * * *

(2) Each hazmat employee who is responsible for unloading must apply the handbrake and block at least one wheel to prevent movement in any direction. If multiple tank cars are coupled together, sufficient hand brakes must be set and wheels blocked to prevent movement in both directions.

(3) Each hazmat employee who is responsible for unloading must secure access to the track to prevent entry by other rail equipment, including motorized service vehicles. This requirement may be satisfied by lining each switch providing access to the unloading area against movement and securing each switch with an effective locking device, or by using derails, portable bumper blocks, or other equipment that provides and equivalent level of safety.

(4) Each hazmat employee who is responsible for unloading must display caution signs on the track or on the tank cars to warn persons approaching the cars from the open end of the track and must be left up until after all closures are secured and the cars are in proper condition for transportation. The caution signs must be of metal or other durable material, rectangular, at 30.48 cm (12 inches) high by 38.10 cm (15 inches) wide, and bear the word “STOP.” The word “STOP” must appear in letters at least 10.16 cm (4 inches) high. The letters must be white on a blue background. Additional words, such as “Tank Car Connected” or “Crew at Work,” may also appear in white letters under the word “STOP.”

* * * * *

(6) Before a manhole cover or outlet valve cap is removed form a tank car, the car must be relieved of all interior pressure by cooling the tank with water or by venting the tank by raising the safety valve or opening the dome vent at short intervals. However, if venting to relieve pressure will cause a dangerous amount of vapor to collect outside the car, venting and unloading must be deferred until the pressure is reduced by allowing the car to stand overnight or otherwise cooling the contents. These precautions are not necessary when the car is equipped with a manhole cover which hinges inward or with an inner manhole cover which does not have to be removed to unload the car, and when pressure is relieved by piping vapor into a condenser or storage tank.

* * * * *

PART 175—CARRIAGE BY AIRCRAFT

53. The authority citation for part 175 continues to read as follows:

Authority: 49 U.S.C. 5101-5128; 44701; 49 CFR 1.53.

§ 175.8 [Amended]

54. In § 175.8, in paragraph (a)(3)(ii), the reference “§ 175.75(a)” is revised to read “§ 175.75(c)”.

55. In § 175.75, make the following changes:

a. Revise paragraph (e)(3); and

b. In paragraph (e)(5), the “Section 175.75 Quantity and Loading Tables” are revised.

The revisions read as follows:

§ 175.75 Quantity limitations and cargo location.

* * * * *

(e) * * *

(3) Packages of hazardous materials transported aboard a cargo aircraft, when other means of transportation are impracticable or not available, in accordance with procedures approved in writing by the FAA Regional or Field Security Office in the region where the operator is located.

* * * * *

(5) * * *

Section 175.75 Quantity and Loading Tables

Passenger Aircraft
Packages Authorized for Transport Onboard a Passenger Aircraft
In an accessible cargo compartment: If packages are accessible | In an accessible cargo compartment: If packages are inaccessible | In an accessible cargo compartment: If packages are in a freight container
No limit | 25 kg per compartment plus an additional 75 kg of Division 2.2 material. (see Note 1) | 25 kg per container plus an additional 75 kg of Division 2.2 material. (see Note 1).
In an inaccessible cargo compartment

If packages are not in a freight container | If packages are in a freight container
25 kg per compartment plus an additional 75 kg of Division 2.2 material. (see Note 1) | 25 kg per compartment plus an additional 75 kg of Division 2.2 material. (see Note 1).

Cargo Only Aircraft
Packages Authorized for Transport Onboard a Passenger Aircraft
In an accessible cargo compartment: If packages are accessible | In an accessible cargo compartment: If packages are inaccessible | In an accessible cargo compartment: If packages are in a freight container
No limit | 25 kg per compartment plus an additional 75 kg of Division 2.2 material. (see Note 1) | 25 kg per container plus an additional 75 kg of Division 2.2 material. (see Note 1).
In an inaccessible cargo compartment

If packages are not in a freight container | If packages are in a freight container
25 kg per compartment plus an additional 75 kg of Division 2.2 material. (see Note 1) | 25 kg per compartment plus an additional 75 kg of Division 2.2 material. (see Note 1).
Packages Only Authorized for Transport Aboard a Cargo Aircraft
In an accessible cargo compartment

If packages are accessible | If packages are inaccessible | If packages are in a freight container and are accessible | If packages are in a freight container and are inaccessible
No limit | Forbidden. (see Note 1) | No Limit | Forbidden. (see Note 1).
In an inaccessible cargo compartment

If packages are not in a freight container | If packages are in a freight container
Forbidden. (see Note 1) | Forbidden. (see Note 1).
Note 1: The following materials are not subject to this restriction:
a. Class 3, PG III (unless the hazardous material meets the definition of another hazard class).
b. Class 6 (unless also labeled as a flammable liquid).
c. Class 7 (unless the hazardous material meets the definition of another hazard class).

PART 176—CARRIAGE BY VESSEL

56. The authority citation for part 176 continues to read as follows:

Authority: 49 U.S.C. 5101-5128; 49 CFR 1.53.

57. In § 176.83, in paragraph (l), Table 176.83(l)(3) is revised to read as follows:

§ 176.83 Segregation.

* * * * *

(l) * * *

* * * * *

Table § 176.83(L)(3).—Segregation of Cargo Transport Units on Board Hatchless Container Ships
Segregation requirement | Vertical: Closed versus closed | Vertical: Closed versus open | Vertical: Open versus open | Horizontal | Horizontal: Closed versus closed: On deck | Horizontal: Closed versus closed: Under deck | Horizontal: Closed versus open: On deck | Horizontal: Closed versus open: Under deck | Horizontal: Open versus open: On deck | Horizontal: Open versus open: Under deck
1. “Away from” | On top of the other permitted | Open on top of closed permitted |  | Fore and aft | No restriction | No restriction | No restriction | No restriction | One container space | One container space or one bulkhead.
|  | Otherwise as for “Open versus open” |  | Athwart ships | No restriction | No restriction | No restriction | No restriction | One container space | One container space.
2. “Separated from” |  |  | Not in the same vertical line | Fore and aft | One container space | One container space or one bulkhead | One container space | One container space or one bulkhead | One container space and not in or above same hold | One bulkhead.
| Not in the same vertical line | As for “Open versus open” |  | Athwart ships | One container space | One container space | Two container spaces | Two container spaces | Two container spaces and not in or above same hold | One bulkhead.
3. “Separated by a complete compartment or hold from” |  |  |  | Fore and aft | One container space and not in or above same hold | One bulkhead | One container space and not in or above same hold | One bulkhead | Two container spaces and not in or above same hold | Two bulkheads.
|  |  |  | Athwart ships | Two container spaces and not in or above same hold | One bulkhead | Two container spaces and not in or above same hold | One bulkhead | Three container spaces and not in or above same hold | Two bulkheads.
4. “Separated longitudinally by an intervening complete compartment or hold from” | Prohibited | Prohibited |  | Fore and aft | Minimum horizontal distance of 24 m and not in or above same hold | One bulkhead and minimum horizontal distance of 24 m* | Minimum horizontal distance of 24 m and not in or above same hold | Two bulkheads | Minimum horizontal distance of 24 m and not in or above same hold | Two bulkheads.
|  |  |  | Athwart ships | Prohibited | Prohibited | Prohibited | Prohibited | Prohibited | Prohibited.
* Containers not less than 6 m (20 feet) from intervening bulkhead.
Note: All bulkheads and decks must be resistant to fire and liquid.

* * * * *

PART 178—SPECIFICATIONS FOR PACKAGINGS

58. The authority citation for part 178 continues to read as follows:

Authority: 49 U.S.C. 5101-5128; 49 CFR 1.53.

§§ 178.270-12, 178.270-13, 178.270-14 [Removed]

59. Remove §§ 178.270-12, 178.270-13, 178.270-14.

60. In § 178.273, make the following changes.

a. Revise the section heading;

b. Revise the second sentence in paragraph (b)(7)(ii); and

c. Revise paragraph (e)(1).

The revisions read as follows:

§ 178.273 Approval of Specification UN portable tanks.

* * * * *

(b) * * *

(7) * * *

(ii) * * * The approval certificate must include all the information required to be displayed on the metal identification plate required by § 178.274(i). * * *

* * * * *

(e) * * *

(1) Prior to modification of any UN portable tank which may affect conformance and the safe use of the portable tank, which may involve a change to the design type or which may affect its ability to retain hazardous material in transportation, the person desiring to make such modification shall inform the approval agency that issued the initial approval of the portable tank (or if unavailable, another approval agency) of the nature of the modification and request approval of the modification. The person desiring to modify the tank must supply the approval agency with three sets of all revised drawings, calculations, and test data relative to the intended modification.

* * * * *

61. In § 178.274, the sixth sentence in paragraph (b)(1) is revised to read as follows:

§ 178.274 Specifications for UN portable tanks.

* * * * *

(b) * * *

(1) * * * Portable tanks must have an ASME certification and U stamp when used for Hazard Zone A or B toxic by inhalation liquids, or when used for non-refrigerated or refrigerated liquefied compressed gases. * * *

* * * * *

62. In § 178.348-4, paragraph (d)(3) is revised to read as follows:

§ 178.348-4 Pressure relief.

* * * * *

(d) * * *

(3) Cargo tanks used in dedicated service for materials classed as corrosive material, with no secondary hazard, may have a total venting capacity which is less than required by § 178.345-10(e). The minimum total venting capacity for these cargo tanks must be determined in accordance with the following formula (use of approximate values given for the formula is acceptable):

Formula in Nonmetric Units

Q = 37,980,000 A^0.82 (ZT)^0.5 / (LC)(M^0.5)

Where:

Q = The total required venting capacity, in cubic meters of air per hour at standard conditions of 15.6 °C and 1 atm (cubic feet of air per hour at standard conditions of 60 °F and 14.7 psia);

T = The absolute temperature of the vapor at the venting conditions—degrees Kelvin (°C+273) [degrees Rankine (°F+460)];

A = The exposed surface area of tank shell—square meters (square feet);

L = The latent heat of vaporization of the lading—calories per gram (BTU/lb);

Z = The compressibility factor for the vapor (if this factor is unknown, let Z equal 1.0);

M = The molecular weight of vapor;

C = A constant derived from (K), the ratio of specific heats of the vapor. If (K) is unknown, let C = 315.

C = 520[K(2/(K+1))[(K+1)/(K-1)]]0.5

Where:

K = Cp / Cv

Cp = The specific heat at constant pressure, in -calories per gram degree centigrade (BTU/lb °F.); and

Cv = The specific heat at constant volume, in -calories per gram degree centigrade (BTU/lb °F.).

62a. In § 178.606, paragraph (c)(2)(ii) is revised to read as follows:

§ 178.606 Stacking test.

* * * * *

(c) * * *

(2) * * *

(ii) The packaging may be tested using a dynamic compression testing machine. The test must be conducted at room temperature on an empty, unsealed packaging. The test sample must be centered on the bottom platen of the testing machine. The top platen must be lowered until it comes in contact with the test sample. Compression must be applied end to end. The speed of the compression tester must be one-half inch plus or minus one-fourth inch per minute. An initial preload of 50 pounds must be applied to ensure a definite contact between the test sample and the platens. The distance between the platens at this time must be recorded as zero deformation. The force A to then be applied must be calculated using the formula:

Liquids: A = (n−1) [w + (s × v × 8.3 × .98)] × 1.5;

Solids: A = (n−1) (m × 2.2 × 1.5)

Where:

A = applied load in pounds

m = the certified maximum gross mass for the container in kilograms.

n = minimum number of containers that, when stacked, reach a height of 3 meters.

s = specific gravity of lading.

w = maximum weight of one empty container in pounds.

v = actual capacity of container (rated capacity + outage) in gallons.

And:

8.3 corresponds to the weight in pounds of 1.0 gallon of water.

.98 corresponds to the minimum filling percentage of the maximum capacity for liquids.

1.5 is a compensation factor that converts the static load of the stacking test into a load suitable for dynamic compression testing.

2.2 is the conversion factor for kilograms to pounds.

* * * * *

PART 179—SPECIFICATIONS FOR TANK CARS

63. The authority citation for part 179 continues to read as follows:

Authority: 49 U.S.C. 5101-5128; 49 CFR 1.53.

§ 179.18 [Amended]

64. In § 179.18, in paragraph (c), remove the wording “400 Seventh Street, SW.” and add in its place “East Building, 1200 New Jersey Avenue, SE.”.

65. In § 179.300-19, paragraph (a) is revised to read as follows:

§ 179.300-19 Inspection.

(a) Tank shall be inspected within the United States and Canada by a competent and impartial inspector as approved by the Associate Administrator of Safety, FRA. For tanks made outside the United States or Canada, the specified inspection shall be made within the United States.

* * * * *

PART 180—CONTINUING QUALIFICATION AND MAINTENANCE OF PACKAGINGS

66. The authority citation for part 180 continues to read as follows:

Authority: 49 U.S.C. 5101-5128; 49 CFR 1.53.

67. In § 180.209, the table in paragraph (i)(1) and Notes 1 and 2 following the table are revised to read as follows:

§ 180.209 Requirements for requalification of specification cylinders.

* * * * *

(i) * * *

(1) * * *

Date of cylinder manufacture | Shell (visual inspection) requalification: Initial | Shell (visual inspection) requalification: Subsequent | Porous filler requalification: Intial | Porous filler requalification: Subsequent
Before January 1, 1991 | Before January 1, 2001 | 10 years | Before January 1, 2011 | Not required.
On or after January 1, 1991 | 10 years ¹ | 10 years | 5 to 20 years ² | Not required.
¹ Years from the date of cylinder manufacture.
² No sooner than 5 years, and no later than 20 years from the date of manufacture.

* * * * *

§ 180.212 [Amended]

68. In § 180.212, in paragraph (b)(2), the wording “by the original manufacturer of the cylinder” is revised to read: “by a cylinder manufacturer of these types of cylinders”.

69. In § 180.215, paragraph (b) introductory text is revised to read as follows:

§ 180.215 Reporting and record retention requirements.

* * * * *

(b) Requalification records. Daily records of visual inspection, pressure test, and ultrasonic examination if permitted under a special permit, as applicable, must be maintained by the person who performs the requalification until either the expiration of the requalification period or until the cylinder is again requalified, whichever occurs first. A single date may be used for each test sheet, provided each test on the sheet was conducted on that date. Ditto marks or a solid vertical line may be used to indicate repetition of the preceding entry for the following entries only: date; actual dimensions; manufacturer's name or symbol, if present; owner's name or symbol, if present; and test operator. Blank spaces may not be used to indicate repetition of a prior entry. The records must include the following information:

* * * * *

§ 180.409 [Amended]

70. In § 180.409, in paragraph (d)(2), remove the wording “400 Seventh Street, SW.” and add in its place “East Building, 1200 New Jersey Avenue, SE.”.

Issued in Washington, DC, on September 24, 2007, under authority delegated in 49 CFR part 1.
Krista L. Edwards,
Acting Administrator.

[FR Doc. E7-19138 Filed 9-28-07; 8:45 am]

BILLING CODE 4910-60-P